DEPARTMENT OF HEALTH AND HUMAN SERVICES

National Institutes of Health

Center for Scientific Review; Amended Notice of Meeting

Notice is hereby given of a change in the meeting of the Center for Scientific Review Special Emphasis Panel, March 3, 2004, 7:30 a.m. to March 5, 2004, 3 p.m., Four Points by Sheraton Bethesda, 8400 Wisconsin Avenue, Bethesda, MD 20814 which was published in the Federal Register on February 10, 2004, 69 FR 6314-6317.

The meeting will be held March 4, 2004 to March 5, 2004, from 8:30 a.m. to 3 p.m. The location remains the same. The meeting is closed to the public.

Dated: February 17, 2004.
LaVerne Y. Stringfield,
Director, Office of Federal Advisory Committee Policy.

[FR Doc. 04-3902 Filed 2-23-04; 8:45 am]

BILLING CODE 4140-01-M